DEPARTMENT OF HEALTH AND HUMAN SERVICES

Health Resources and Services Administration

Health Careers Opportunity Program

AGENCY: Health Resources and Services Administration (HRSA), HHS.

ACTION: Notice of Noncompetitive Program Expansion Supplements to Health Careers Opportunity Program (HCOP) Grantees To Develop or Enhance Educational Pipeline Strategies With Behavioral Health Professions.

SUMMARY: HRSA is issuing non-competitive program expansion supplements to all 17 fiscal year (FY) 2013 HCOP grantees to include interprofessional health educational activities focused on careers in behavioral health, such as a graduate degree in Clinical or Counseling Psychology, Clinical Social Work, and/or Marriage and Family Therapy. This expanded focus could be formed through collaboration with a Behavioral Health Department/School or Program that is within the current HCOP academic institution or accessible within the institution's geographic region. Approximately $1,900,000 will be available for this effort. HCOP grantees currently have the expertise, experience, and infrastructure to quickly and efficiently implement the behavioral health supplemental initiative within their existing educational programming. The program expansion supplements will allow the Bureau of Health Professions to consolidate resources and meet the growing need for and access to skilled and culturally competent behavioral health professionals within a currently existing grant program.

SUPPLEMENTARY INFORMATION:

Intended Recipients of the Award: 17 FY 2013 HCOP awardees, as follows:

Grant No. | Institution name | State | Anticipated FY 2013 supplemental amount
D18HP23034 | University of Alabama Birmingham | AL | $111,764
D18HP23007 | University of Arizona | AZ | 111,764
D18HP10623 | University of California, San Diego | CA | 111,764
D18HP23028 | D'Youville College | NY | 111,764
D18HP10617 | Marquette University | WI | 111,764
D18HP05283 | Meharry Medical College | TN | 111,764
D18HP23030 | Michigan State University | MI | 111,764
D18HP10625 | University of Michigan-Flint | MI | 111,764
D18HP10627 | Mount Sinai School of Medicine | NY | 111,764
D18HP23032 | University of Texas Medical Branch | TX | 111,764
D18HP23014 | Research Foundation of the State University of New York | NY | 111,764
D18HP23023 | Howard University | DC | 111,764
D18HP23019 | St. Vincent Health | IN | 111,764
D18HP23031 | Northeastern Vermont AHEC | VT | 111,764
D18HP10618 | University of Minnesota | MN | 111,764
D18HP24087 | University of Detroit Mercy | MI | 111,764
D18HP24088 | University of New Mexico Health Sciences Center | NM | 111,764

Amount of Award: $111,764 per grantee.

Project Period: September 1, 2013 through August 31, 2014.

CFDA Number: 93.822.

Authority: Title VII, Section 739 of the Public Health Service (PHS) Act, as amended by Section 5402 of the Affordable Care Act.

Justification: A diverse health professions workforce is critical to achieving greater health equity and ensuring access to quality health care services for underrepresented and underserved populations. The increasing diversity of the U.S. population requires a health care workforce that is reflective of the population, knowledgeable, and culturally competent to care for a growing range of health care needs and to serve populations in hard to reach places. HRSA's HCOP grant program serves as a pipeline program by encouraging, cultivating, and supporting students from economically and academically disadvantaged backgrounds to enter health care fields. To date, HCOP has primarily focused on exposure to careers in medicine, dentistry, pharmacy, and allied health. With the growing need for mental health and substance abuse services (behavioral health), there is an opportunity to expand the HCOP focus to include opportunities in the behavioral health professions (i.e., social work, psychology, marriage and family therapy).

FOR FURTHER INFORMATION CONTACT: Tia-Nicole Leak, Ph.D., Division of Public Health and Interdisciplinary Education, Bureau of Health Professions, Health Resources and Services Administration, 5600 Fishers Lane, Room 9C-26, Rockville, Maryland 20857 or email tleak@hrsa.gov.

Dated: August 27, 2013.
Mary K. Wakefield,
Administrator.

[FR Doc. 2013-21339 Filed 8-30-13; 8:45 am]

BILLING CODE 4165-15-P